DEPARTMENT OF LABOR

Employment and Training Administration

[TA-W-53,288]

Biddeford Blankets, LLC Microlife USA Subsidiaries of Microlife Corporation Biddeford, MA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on November 21, 2003, applicable to workers of Biddeford Blankets, LLC, a subsidiary of Microlife Corporation, Biddeford, Maine. The notice was published in the Federal Register on December 29, 2003 (68 FR 74979).

At the request of a petitioner, the Department reviewed the certification for workers of the subject firm. The workers are engaged in the production of flexible heating products, including electric warming blankets.

New information shows that Biddeford Blankets, LLC and Microlife USA are subsidiaries of Microlife Corporation. Workers separated from employment at the subject firm had their wages reported under a separate unemployment insurance (UI) tax account for Microlife USA.

Accordingly, the Department is amending the certification to properly reflect this matter.

The intent of the Department's certification is to include all workers of Biddeford Blankets, LLC who were adversely affected by increased imports.

The amended notice applicable to TA-W-53,288 is hereby issued as follows:

All workers of Biddeford Blankets, LLC, Microlife USA, subsidiaries of Microlife Corporation, Biddeford, Maine, who became totally or partially separated from employment on or after October 17, 2002, through November 21, 2005, are eligible to apply for adjustment assistance under Section 223 of the Trade Act of 1974, and are also eligible to apply for alternative trade adjustment assistance under Section 246 of the Trade Act of 1974.

Signed at Washington, DC this 12th day of March 2004.
Linda G. Poole,
Certifying Officer, Division of Trade Adjustment Assistance.

[FR Doc. 04-7174 Filed 3-30-04; 8:45 am]

BILLING CODE 4510-30-P